DEPARTMENT OF HEALTH AND HUMAN SERVICES

Substance Abuse and Mental Health Services Administration

Center for Substance Abuse Prevention; Notice of Meeting

Pursuant to Public Law 92-463, notice is hereby given that the Substance Abuse and Mental Health Services Administration (SAMHSA) Center for Substance Abuse Prevention National Advisory Council will meet on July 29 and July 30, 2008.

A portion of the meeting will be open and will include discussion of the Center's policy issues, and current administrative, legislative and program developments.

The meeting will also include the review, discussion, and evaluation of grant applications. Therefore a portion of the meeting will be closed to the public as determined by the Administrator, SAMHSA, and in accordance with Title 5 U.S.C. 552b(c)(6) and 5 U.S.C. App. 2, Section 10(d).

Attendance by the public will be limited to space available. Public comments are welcome. Please communicate with the CSAP National Advisory Council Designated Federal Official, Tia Haynes (see contact information below), to make arrangements to attend, to comment or to request special accommodations for persons with disabilities.

Substantive program information, a summary of the meeting, and a roster of Committee members may be obtained either by accessing the SAMHSA Committee's Web site at http://www.samhsa.gov/council/csap/csapnac.aspx as soon as possible after the meeting, or by contacting Ms. Haynes. The transcript for the open portion of the meeting will also be available on the SAMHSA Committee's Web site within three weeks after the meeting.

Committee Name: Substance Abuse and Mental Health Services Administration Center for Substance Abuse Prevention National Advisory Council

Date/Time/Type: July 29, 2008, 9 a.m. to 4:30 p.m.: Open. July 30, 2008. From: 9 a.m. to 9:30 a.m.: Open. From: 9:30 a.m. to 12 p.m.: Closed.

Place: 1 Choke Cherry Road, Sugarloaf and Seneca Conference Rooms, Rockville, Maryland 20857.

For Further Information Contact: Tia Haynes, Designated Federal Official, SAMHSA/CSAP National Advisory Council, 1 Choke Cherry Road, Room 4-1066, Rockville, MD 20857, Telephone: (240) 276-2436; FAX: (240) 276-2430, E-mail: tia.haynes@samhsa.hhs.gov.

Toian Vaughn,
Committee Management Officer, Substance Abuse and Mental Health Services Administration.

[FR Doc. E8-15756 Filed 7-10-08; 8:45 am]

BILLING CODE 4162-20-P